DEPARTMENT OF HEALTH AND HUMAN SERVICES

Health Resources and Service Administration

Council on Graduate Medical Education; Notice of Meeting

In accordance with section 10(a)(2) of the Federal Advisory Committee Act (Pub. L. 92-463), notice is hereby given of the following meeting:

Name: Council on Graduate Medical Education (COGME).

Dates and Times: March 12, 2015 (8:30 a.m.-5 p.m. EST); March 13, 2015 (8:30 a.m.-5 p.m. EST).

Place: In-person meeting, webinar, and conference call format.

Status: The meeting will be open to the public.

Purpose: The COGME provides advice and recommendations to the Secretary of the Department of Health and Human Services and to Congress on a range of issues including the supply and distribution of physicians in the United States, current and future physician shortages or excesses, issues relating to foreign medical school graduates, the nature and financing of medical education training, and the development of performance measures and longitudinal evaluation of medical education programs.

The COGME members will discuss topics and issues for the 23rd report. The COGME's reports are submitted to the Secretary of the Department of Health and Human Services; the Committee on Health, Education, Labor, and Pensions of the Senate; and the Committee on Energy and Commerce of the House of Representatives.

Agenda: The COGME agenda includes an opportunity for members to discuss the 23rd report on Graduate Medical Education (GME) innovations. The COGME will review current recommendations for reform; examine and document innovations in GME financing and architecture; and make targeted recommendations to support these innovations as appropriate. GME architecture is defined as changes in the structure of GME training programs to enhance the efficiency of training, account for changes in medicine, and address physician workforce needs, while also maintaining the quality of medical education. Examples include the combined, shortened medical school to primary care residency programs and the integrated vascular surgery tracks which both reduce the total number of years of training by 1 year. Innovations in GME architecture—Committee Discussion Questions include:

• What are examples of innovations in streamlining the GME architecture to increase the throughput and cost efficiencies of GME, in order to reduce the overall length and cost of training?

• How can medical education technology be leveraged in the transformation and innovation in GME?

• What are the potential regulatory and licensing challenges from such changes, and how can they be mitigated?

The official agenda will be available 2 days prior to the meeting on the HRSA Web site at http://www.hrsa.gov/advisorycommittees/bhpradvisory/cogme/index.html.

SUPPLEMENTARY INFORMATION: Requests to make oral comments or provide written comments to the COGME should be sent to Dr. Joan Weiss, Designated Federal Official, using the address and phone number below. Individuals who plan to participate on the conference call or webinar should notify Dr. Weiss at least 3 days prior to the meeting, using the address and phone number below. Members of the public will have the opportunity to provide comments. Interested parties should refer to the meeting subject as the HRSA Council on Graduate Medical Education.

The conference call-in number is (800) 369-1867. The passcode is: 8803797. The webinar link is https://hrsa.connectsolutions.com/cac_committee_meeting/.

As this meeting will be a combined format of both in-person, webinar, and conference call members of the public, and interested parties who wish to participate “in-person” should make an immediate request by emailing their first name, last name, and contact email to the Designated Federal Official for the committee, Dr. Joan Weiss, using the address and phone number below. Space is limited. Due to the fact that this meeting will be held within a federal government building and public entrance to such facilities require prior planning, access will be granted upon request only and will be on a first come, first served basis. The logistical challenges of scheduling this meeting hindered an earlier publication of this meeting notice.

Contact: Anyone requesting information regarding the COGME should contact Dr. Joan Weiss, Designated Federal Official within the Bureau of Health Workforce, Health Resources and Services Administration, in one of three ways: (1) Send a request to the following address: Dr. Joan Weiss, Designated Federal Official, Bureau of Health Workforce, Health Resources and Services Administration, Parklawn Building, Room 12C-05, 5600 Fishers Lane, Rockville, Maryland 20857; (2) call (301) 443-0430; or (3) send an email to jweiss@hrsa.gov.

Jackie Painter,
Director, Division of the Executive Secretariat.

[FR Doc. 2015-05188 Filed 3-5-15; 8:45 am]

BILLING CODE P